DEPARTMENT OF COMMERCE

National Oceanic and Atmospheric Administration

[RTID 0648-XB331]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its Non-commercial Fisheries Advisory Committee (NCFAC), Hawaii Archipelago Fishery Ecosystem Plan (FEP) Advisory Panel (AP), American Samoa Archipelago FEP AP, Mariana Archipelago FEP-Guam AP, Fishing Industry Advisory Committee (FIAC), and Mariana Archipelago FEP-Commonwealth of the Northern Mariana Islands (CNMI) AP to discuss and make recommendations on fishery management issues in the Western Pacific Region.

DATES: The meetings will be held from Wednesday, September 1, 2021 through Saturday, September 11, 2021. For specific dates, times and agendas, see SUPPLEMENTARY INFORMATION.

ADDRESSES: Each of the meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The NCFAC will meet on Wednesday, September 1, 2021, from 1 p.m. to 3:30 p.m.; The Hawaii Archipelago FEP AP will meet on Friday, September 3, 2021, from 9 a.m. to 12 noon; the American Samoa Archipelago FEP AP will meet on Tuesday, September 7, 2021, from 5 p.m. to 7 p.m.; the FIAC will meet on Thursday, September 9, 2021, from 1 p.m. to 4 p.m.; the Mariana Archipelago FEP-Guam AP will meet on Thursday, September 9, 2021, from 6:30 p.m. to 8:30 p.m.; and the Mariana Archipelago FEP-CNMI AP will meet on Saturday, September 11, 2021, from 9 a.m. to 12 noon. All times listed are local island times except for the NCFAC and FIAC are Hawaii Standard Time.

Public comment periods will be provided in the agendas. The order in which agenda items are addressed may change. The meetings will run as late as necessary to complete scheduled business.

Schedule and Agenda for the NCFAC Meeting

Wednesday, September 1, 2021, 1 p.m.-3:30 p.m. (Hawaii Standard Time)

1. Welcome and Introductions

2. Review of Last NCFAC Meeting

3. Council Issues

A. Main Hawaiian Islands (MHI) Uku Fishery Annual Catch Limits (ACLs)

B. Northwestern Hawaiian Islands (NWHI) Sanctuary Designation

C. Proposed Magnuson-Stevens Act (MSA) Changes

D. Regional Research Priorities

4. Review of U.S. Support to the Pacific Nations

5. Fishermen Observations

6. Non-commercial Fishing Activities, Issues, and Efforts

7. Public Comment

8. Discussion and Recommendations

9. Other Business

Schedule and Agenda for the Hawaii Archipelago FEP AP Meeting

Friday, September 3, 2021, 9 a.m.-12 noon (Hawaii Standard Time)

1. Welcome and Introductions

2. Review of the Last AP Meeting and Recommendations

3. Council Issues

A. Revising Seabird Mitigation Measures in the Hawaii Deep-set Longline Fishery

B. NWHI Sanctuary Designation

C. Specifying ACLs for the MHI Uku Fishery

D. Proposed MSA Changes

E. Regional Research Priorities

F. Potential Cultural Honu Take

4. Review of U.S. Support to the Pacific Nations

5. Report on Bottomfish Restricted Fishing Areas

6. Hawaii Fishermen Observations Update

7. Report on Hawaii Archipelago FEP AP Plan Activities

A. Hawaii Fishing Spots Mapping

B. Education and Outreach Activities

8. Fishery Issues and Activities

9. Public Comment

10. Discussion and Recommendations

11. Other Business

Schedule and Agenda for the American Samoa FEP AP Meeting

Tuesday, September 7, 2021, 5 p.m.-7 p.m. (American Samoa Standard Time)

1. Welcome and Introductions

2. Review of the Last AP Meeting and Recommendations

3. Council Issues

A. American Samoa Bottomfish

i. Bottomfish Management Unit Species (BMUS) Rebuilding Plan

ii. Territorial Bottomfish Fishery Management Plan (FMP)

iii. Proposed Bottomfish Community Development Program Plan

B. American Samoa Large Vessel Prohibited Area (LVPA) Update

C. Proposed MSA Changes

D. Regional Research Priorities

4. Review of U.S. Support to the Pacific Nations

5. American Samoa Fishermen Observations Update

6. Report on American Samoa Archipelago FEP AP Plan Activities

A. Sustainable Fisheries Fund Projects

B. Catch It, Log It Update and Report

7. Fishery Issues and Activities

8. Public Comment

9. Discussion and Recommendations

10. Other Business

Schedule and Agenda for the FIAC Meeting

Thursday, September 9, 2021, 1 p.m.-4 p.m. (Hawaii Standard Time)

1. Welcome and Introductions

2. Status Report on June 2021 FIAC Recommendations

3. MSA Reauthorization

4. Mariana Archipelago

A. Military Impacts on Guam Fisheries

B. Federated States of Micronesia Citizen Fishing Activities in Guam Exclusive Economic Zone (EEZ)

5. Impacts of Imports on Hawaii Seafood Markets

6. Papahānaumokuākea Marine National Monument

A. Impacts on Hawaii Longline Fishery

B. Sanctuary Designation

7. Council Actions for 187th Meeting

A. American Samoa BMUS Rebuilding Plan

B. MHI Uku ACL

C. Seabird Mitigation in Hawaii Deep-set Longline Fishery

D. Cooperative Research Priorities

8. Review of U.S. Support to Pacific Island Nations

9. Other Issues

10. Public Comment

11. Discussion and Recommendations

Schedule and Agenda for the Mariana Archipelago FEP-Guam AP Meeting

Thursday, September 9, 2021, 6:30 p.m.-8:30 p.m. (Marianas Standard Time)

1. Welcome and Introductions

2. Review of the Last AP Meeting and Recommendations

3. Council Issues

A. Proposed MSA Changes

B. Regional Research Priorities

4. Review of U.S. Support to the Pacific Nations

5. Tuna Quota Transfer Review and Options

6. Guam Fishermen Observations Update

7. Report on Mariana Archipelago-Guam FEP AP Plan Activities

A. Catch It, Log It Update and Report

8. Fishery Issues and Activities

9. Public Comment

10. Discussion and Recommendations

11. Other Business

Schedule and Agenda for the Mariana Archipelago FEP-CNMI AP Meeting

Saturday, September 11, 2021, 9 a.m.-12 noon (Marianas Standard Time)

1. Welcome and Introductions

2. Review of the Last AP Meeting and Recommendations

3. Council Issues

A. Proposed MSA Changes

B. Regional Research Priorities

4. Review of U.S. Support to the Pacific Nations

5. CNMI Fishermen Observations Update

6. Report on Mariana Archipelago-CNMI FEP AP Plan Activities

A. Catch It, Log It Update and Report

B. Sustainable Fisheries Fund Projects

7. Fishery Issues and Activities

8. Public Comment

9. Discussion and Recommendations

10. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 11, 2021.
Tracey L. Thompson,
Acting Deputy Director, Office of Sustainable Fisheries, National Marine Fisheries Service.

[FR Doc. 2021-17448 Filed 8-13-21; 8:45 am]

BILLING CODE 3510-22-P